CONSUMER PRODUCT SAFETY COMMISSION

Sunshine Act Meetings

TIME AND DATE: Wednesday, March 20, 2024—10 a.m. (See MATTERS TO BE CONSIDERED for each meeting)

PLACE: Room 420, Bethesda Towers, 4330 East West Highway, Bethesda, MD.

STATUS: Commission Meetings—Open to the public (10:00 a.m.); Closed Meeting will follow immediately after conclusion of the public meeting.

MATTERS TO BE CONSIDERED:

Open Session

Decisional Matter on Notice of Proposed Rulemaking—Safety Standard For Bassinets and Cradles.

A live webcast of the meeting can be viewed at the following link: https://cpsc.webex.com/cpsc/j.php?MTID=m468509775636536775a9a64934810080.

Closed Session

Briefing matters.

CONTACT PERSON FOR MORE INFORMATION: Alberta E. Mills, Office of the Secretary, U.S. Consumer Product Safety Commission, 4330 East West Highway, Bethesda, MD 20814, 301-504-7479 (Office) or 240-863-8938 (Cell).

Dated: March 13, 2024.
Alberta E. Mills,
Commission Secretary.

[FR Doc. 2024-05747 Filed 3-14-24; 11:15 am]

BILLING CODE 6355-01-P